DEPARTMENT OF THE INTERIOR

National Park Service

[NPS-WASO-EQD-SSB-16525; PPWONRADE3, PPMRSNR1Y.NM000]

Proposed Information Collection: Recreational Use Study

AGENCY: National Park Service, Interior.

ACTION: Notice; request for comments.

SUMMARY: We (National Park Service) will ask the Office of Management and Budget (OMB) to approve the information collection (IC) concerning recreational use along the Colorado River—specifically the stretch between the Glen Canyon Dam and Lee's Ferry. As required by the Paperwork Reduction Act of 1995 and as part of our continuing efforts to reduce paperwork and respondent burden, we invite the general public and other federal agencies to take this opportunity to comment on this IC. A federal agency not conduct or sponsor, and a person is not required to respond to, a collection of information unless it displays a currently valid OMB control number.

DATES: To ensure that your comments on this IC are considered, we must receive them on or before October 27, 2014.

ADDRESSES: Direct all written comments on this IC to Bret Meldrum, Chief, Social Science Program, National Park Service, 1201 Oakridge Drive, Fort Collins, CO 80525-5596 (mail); Bret_Meldrum@nps.gov (email); and Phadrea Ponds, Information Collection Coordinator, National Park Service, 1201 Oakridge Drive, Fort Collins, CO 80525 (mail); or pponds@nps.gov (email). Please reference Information Collection 1024—NEW in the subject line.

FOR FURTHER INFORMATION CONTACT: Dr. John Duffield, University of Montana, Department of Mathematical Sciences, Missoula, MT 5981; bioecon@montana.com (email); or: 406-721-2265 (phone).

SUPPLEMENTARY INFORMATION:

I. Abstract

In 2013, approximately over 6 million recreational visitors visited the Colorado River corridor. The National Park Service in collaboration with the US Geological Survey (USGS) and the Grand Canyon Monitoring and Research Center (GCMRC) are interested in understanding the quality and values of visitor trips related to recreational use from the base of Glen Canyon Dam to just below Lees Ferry. A mail-back survey will be used to collect information concerning 1) trip/visit characteristics, 2) activities and 3) opinions on river management. This collection proposes to provide data that will be used to update the currently used estimates that are more than 25 years old. Up-to-date and relevant information is needed concerning the estimation of recreational use in this area.

II. Data

OMB Number: None. This is a new collection.

Title: Recreational Use Survey.

Type of Request: New.

Affected Public: General public and individual households.

Respondent Obligation: Voluntary.

Frequency of Collection: One-time.

Estimated Number of Annual Responses: 5,940.

Annual Burden Hours: 844 hours. We estimate the public reporting burden to be 20 minutes per completed survey response.

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 20, 2014.
Madonna L. Baucum,
Information Collection Clearance Officer, National Park Service.

[FR Doc. 2014-20232 Filed 8-25-14; 8:45 am]

BILLING CODE 4310-EH-P